DEPARTMENT OF TRANSPORTATION

Transportation Security Administration

Criteria for Certification of Explosives Trace Detection Systems

AGENCY: Transportation Security Administration (TSA) DOT.

ACTION: Notice.

SUMMARY: This notice discusses the criteria that an Explosive Trace Detection system (ETD) must satisfy in order to be certified by TSA (hereinafter referred to as the criteria). The criteria establish minimum acceptable performance in detecting and identifying trace amounts of explosives at levels indicative of contamination from the presence of explosive material or from proximity or contact with suspect individuals who handled explosive material. The criteria also establish certain minimum acceptable operational requirements.

FOR FURTHER INFORMATION CONTACT: Richard Burdette, Office of Information and Security Technology, Transportation Security Administration, 800 Independence Avenue, SW., Washington, DC 20591, telephone (202) 267-7398.

SUPPLEMENTARY INFORMATION:

Electronic Access

You can get an electronic copy of this notice using the Internet by taking the following steps:

(1) Go to search function of the Department of Transportation's electronic Docket Management System (DMS) Web page (http://dms.dot.gov/search).

(2) On the search page type in the last digits of the docket number shown at the beginning of this notice. Click on “search.”

(3) On the next page, which contains the docket summary information for the docket you selected, click on the final rule.

You can also get an electronic copy using the Internet through the Government Printing Office's Web page at http://www.access.gpo.gov/su_docs/aces/aces140html.

In addition, copies are available by writing or calling the Transportation Security Administration's Air Carrier Division, 800 Independence Avenue, SW., Washington, DC 20591; telephone 202-267-3413.

Release of National Security and Sensitive Information

The complete criteria are contained in the Certification Plan for Explosives Trace Detection Equipment (Certification Plan). Certain portions of the criteria are of national security concern and require safeguarding from unauthorized disclosure pursuant to Executive Order 12356 (National Security Information, often referred to as classified information). Further, pursuant to TSA regulations governing protection of sensitive security information, See 67 FR 8340, 8352 (Feb. 20, 2002) (to be codified at 49 CFR part 1520), certain unclassified information incorporated in the criteria has been determined to be sensitive security information. Upon request, the Certification Plan will be provided to prospective vendors of ETDs and other interested persons with a bona fide need to know, provided such persons have appropriate authorization for access to U.S. Government national security information and sensitive security information. The Certification Plan, without the national security information, will be provided to other interested persons with a bona fide need to know, provided such persons have appropriate authorization for access to sensitive security information.

Availability of Certification Plan

Persons requesting access to, or a copy of, the Certification Plan (including all classified and sensitive security information) may write to: Information Security Program Manager, Office of Inspection (TSA-13), Transportation Security Administration, 400 7th Street, SW., Washington, DC 20590.

Individuals requesting the classified portion of the Certification Plan must include information regarding authorizations and security clearances for access to U.S. Government national security information, and sufficient explanatory information supporting the request to demonstrate a bona fide need to know the information contained in the Certification Plan.

Background

In light of the September 11, 2001, terrorist attacks in the United States and the potential for future attacks in this country, Congress enacted the Aviation and Transportation Security Act (ATSA), Public Law 107-71, 115 Stat. 597 (November 19, 2001), which established the Transportation Security Administration (TSA) as an operating administration within the Department of Transportation (DOT), headed by the Under Secretary of Transportation for Security (Under Secretary).

Pursuant to ATSA, TSA is responsible for security in all modes of transportation, including civil aviation under Chapter 449 of title 49, United States Code, related research and development activities, and other transportation security functions exercised by DOT. TSA is specifically responsible for the day-to-day security screening operations for passenger air transportation and intrastate air transportation under 49 U.S.C. 44901 and 44935. This includes, among other things, the screening of checked baggage carried aboard passenger aircraft.

Under 49 U.S.C. 44901(d)(1), TSA is required to ensure that explosive detection systems are deployed so that United States airports have sufficient explosive detection systems to screen all checked baggage at those airports by December 31, 2002. TSA will meet this requirement through the deployment of bulk explosive detection systems (EDS) and ETDs.

In 1993, the Federal Aviation Administration issued criteria for the certification of bulk EDS that established minimum performance requirements for screening of checked baggage. See 58 FR 47804 (Sept. 10, 1993). TSA, as the agency now responsible for civil aviation security, is issuing criteria for the certification of ETDs used to screen baggage, including both checked baggage or accessible property, and the contents of baggage.

The ETD Criteria

The following sets forth a summary of the criteria. It does not include those portions that contain either National Security Information that requires safeguarding pursuant to Executive Order 12356, or sensitive security information that requires safeguarding pursuant to TSA regulations, see 67 FR 8340, 8352 (Feb. 20, 2002) (to be codified at 49 CFR part 1520.7) (together referred to as “sensitive criteria”). The Certification Plan contains all the criteria, as well as the steps the vendor must take to have TSA certify its ETD.

Testing of ETDs presented to TSA for ETD certification will be performed in accordance with the TSA's Certification Plan for Explosive Trace Detection Equipment (the Certification Plan). The Certification Plan is consistent with the recommendations for certification of trace equipment in the 1999 National Research Council's report on the “Assessment of Technologies Deployed to Improve Aviation Security.”

All costs, direct and indirect, associated with testing and certification (e.g., insurance, shipping, installation, set-up, technical operation, maintenance, calibration, disassembly, and TSA laboratory testing costs) must be borne by the vendor.

Summary of the Criteria for Certification of Explosive Trace Detection Systems

Terms Used

For purposes of the criteria:

An “explosive trace” is a minute residue of explosive materials that may be the remnant of threat activities, including bomb making or coming into close proximity with a suspect individual (e.g., bomb makers or bomb distributors).

An ETD is a device, or combination of devices, that has the ability to detect and identify potential threats by looking for explosive traces in or on baggage and its contents, to include electronic items, electric items, courier pouches, and other concealments, as specified by TSA.

The term “baggage” includes accessible property and checked baggage.

The term “accessible property” includes to all items presented at the screening checkpoint prior to entering the sterile area including electronic and electric items intended to be carried into the sterile area or in the passenger cabin of the aircraft.

The term “checked baggage” includes all passenger bags destined for the aircraft cargo hold, including originating and transfer baggage.

The term “nuisance alarm” means an alarm by the ETD that may be caused by the presence of explosive traces when no bomb is present or by other materials that produce a signature indistinguishable from the explosives of interest.

General Requirements

The ETD must operate effectively, efficiently, and reliably in an airport environment, with a reasonable nuisance alarm rate. To achieve certification, the system must demonstrate the ability to achieve operational requirements when used in the assigned mission role by representative operators provided with procedures. Additionally, the ETD must demonstrate a capability to sustain mission readiness when maintained by trained personnel using the defined maintenance schedule and procedures.

TSA will certify ETD equipment based upon the criteria. TSA will also develop a list of certified equipment that is eligible for use in screening baggage (the Qualified Vendor Listing or QVL) in airport operations.

The ETD must be approved by Underwriters Laboratory or equivalent, and if it employs a radioactive source, be licensed by the Nuclear Regulatory Commission (NRC). Radiation safety procedures must exist for each ETD containing radioactive materials to ensure compliance with pertinent regulations.

The vendor must provide data certifying that the ETD and associated test equipment and tools meet the personnel and facility safety requirements specified by the Occupational Safety and Health Administration (OSHA) regulations and the National Electrical Code.

The vendor must provide a general license to allow TSA, air carriers, and airport operators the legal right to operate the ETD without limitation for each location of installation and operation.

TSA will certify only complete turnkey systems. TSA will not certify, or allow for use, individual components. Prior to final certification, TSA will require vendors to provide a complete baseline system with documentation. This documentation must include, but is not limited to: recommended system installation procedures with power and telecommunications requirements; calibration and sample collection procedures; minimum essential test equipment and devices; routine field testing and calibration procedures and test objects to be used; routine and emergency operating procedures; field preventative maintenance and repair procedures; and training programs.

Detection Requirements

The ETD must demonstrate a very high probability of detection for each category of explosive. The ETD must detect and identify the explosives at the trace levels specified in the sensitive criteria when employed in the operational environment by representative personnel. The sensitive criteria identify the types and quantities of explosive materials (explosive trace) that must be detected, the minimum detection rate for each category of explosive, and the overall detection and maximum nuisance alarm rates. The criteria also specifies the requirement to detect the minimum quantity and larger quantities of each listed explosive.

The ETD must detect and differentiate explosive materials from among all other materials that might be found deposited on a surface of interest, whether on the inside or outside of the baggage or its contents.

The ETD, either as sold or with modification, must also be capable of field retrofit to identify new threats, including the marking agents for plastic explosives required by Public Law 104-132.

The ETD must have a clear-down time specified in the sensitive criteria.

Operational Requirements

The ETD must have a sampling method. The sampling method must provide for effective sampling from the variety of surfaces shapes, contours, and textures encountered in baggage and their contents. The sampling method must have sufficient flexibility to sample all potential areas of interest on and in the bag. The sampling method may be automated, and must be usable by the average baggage screener.

The ETD sampling method must not cause damage visible to the naked eye or significant residual alteration of the screened subject(s) or its contents. Assume there will not be sample acquisition from scratch-sensitive surfaces such as laptop computer screens and camera lenses.

The ETD must display data using a built-in monitor and be viewable in normal lighting conditions using a glare-free screen. The monitor must be at least two inches on each side.

The ETD must display a message on the monitor that identifies the explosive detected.

The ETD must provide notification of NON-Detection by displaying a message on the monitor.

The ETD must provide notification of detection of explosives by aural alarms.

The ETD must provide a printed record indicating all available information associated with the alarm. The information must be sufficient for analysis of the sample, assistance in troubleshooting, and diagnosis of problems.

The ETD's human-system interface, including displays, printed records of detection activity, visual and auditory alarms, and others, should conform to applicable provisions of DOT/FAA/CT-96/1 (Human Factors Engineering Design Guide for Non-Developmental and Developmental Items) for use by 5th percentile female through 95th percentile male users. Additionally, displays should conform to industry conventions for Graphical User Interface (GUI) or Object-Oriented User Interface (OOUI) designs where GUI or OOUI displays are present. Displayed information must be heuristically appropriate and based on operator and maintainer task requirements.

The ETD must be capable of processing a minimum of 180 samples per hour when no alarms are present (not including acquiring the sample). This time includes machine processing and analysis.

The ETD must operate on 110 volt typical airport power.

The ETD must be capable of being safely, effectively, and efficiently operated and maintained in its fielded configuration under all possible operating conditions (e.g., environment: lighting, and noise) by trained personnel using the procedures provided by the vendor.

The ETD must be capable of being shut down, transported by one individual to a new site, reinstalled, and placed in an operational ready mode within a one hour period.

The vendor must provide routine updates, upgrades, design modifications, and corrective performance improvements. A decision will be made by TSA if incorporating the upgrades require the vendor to re-certify the ETD. The vendor must notify and obtain written approval from TSA, in accordance with the Configuration Management Plan (CMP), before incorporating any adaptation, update or upgrade of TSA deployed hardware, software, or firmware.

Reliability Requirements

The ETD must demonstrate a mission reliability of 95% where mission reliability is defined as the ability of the system to complete any given shift once operations are commenced.

The ETD must be available for sample testing 95% of the time (defined as the availability of the unit to support the mission at any given time during any 24 hour period).

The vendor must provide a maintenance schedule and maintenance procedures for the fielded configuration item that can be accomplished by site operator and maintenance personnel. The ETD must require less than an average of 30 minutes of general/preventive maintenance per day.

The ETD must have a MTTR of less than 4 and a maximum time to repair of 24 hours including cool-down, disassembly, reassembly, warm-up, verification of operation, and further diagnosis as required. The MTTR should be based on repair by a factory-trained technician.

Data Processing Requirements

The ETD must provide data processing capability with an internal processor. This processor must be at a minimum equivalent to the 80486 processor. The ETD must provide data directly to the TSA. The data elements are “system” and “transaction” data defined in the Certification Plan.

Training Requirements

The ETD must demonstrate the capability to be operated and maintained by trained personnel; the training program must be matched and attuned to the skill level, qualifications, and capacity of current ETD operators and supervisors performing similar baggage inspection functions. The system must be delivered with technical documentation which at a minimum will consist of two System Technical Manuals to support the ETD: (1) an Operations Manual to support operations; and (2) a Maintenance Manual to support maintenance performed by technicians at the System sites.

Certification Requirements

As required by the Certification Plan, vendors seeking TSA certification for an ETD must submit complete descriptive data, manuals, and airport test results to TSA prior to receiving permission to ship the ETD to the TSA Technical Center. TSA reserves the right to visit a vendor's facilities for technical quality assurance and configuration management purposes, require and/or monitor in-house tests, and review associated data prior to granting permission to ship equipment for certification testing.

The vendor must provide documentation describing the ETD configuration management and quality assurance plans and practices applied during system development, production, and test and evaluation.

Before the system is accepted for laboratory detection testing it must have been used in an airport and have processed over 4,000 bags. TSA will provide, on request, up to 100 sample test articles for use in the airport environment to allow realistic detection testing. Data from these tests may be used to help establish the appropriate alarm threshold and to evaluate various sampling tools and procedures. Nuisance alarm rates must be reported at the alarm threshold setting to be used in the laboratory testing. Additionally, the data on detection (based upon a set of 50 test articles), reliability and operational availability must be recorded and submitted as part of the pre-certification documentation.

The TSA Research and Development Technical Center in Atlantic City, New Jersey will perform certification tests for producers of candidate ETDs. The ETD Certification Test Director in the Office of Transportation Security Research and Development is the point of contact.

After the ETD has demonstrated an acceptable level of detection in the laboratory, TSA will take the system to an airport to exercise and test the sample acquisition system and acquire nuisance alarm and reliability data by sampling at least 1,000 passenger bags.

Operational field test and evaluation of the ETD is a critical component of the trace detector certification process. Using the same configuration demonstrated in the laboratory test, the ETD must demonstrate compliance with appropriate operational requirements, including usability, appropriately low nuisance alarm rates, automated data collection and retrieval capability, security protocols, reliability, maintainability, supportability, ease of use and transportability.

Considerations for the Qualified Vendors Listing (QVL)

In addition to the mandatory Criteria discussed above, there are a number of other operational considerations that will influence any future TSA decision to place the equipment on the QVL. The QVL is the list of equipment that is eligible for TSA to purchase, deploy, and use ETD for screening baggage. While these considerations are not mandatory for certification of ETD, TSA highly recommends that vendors factor these considerations into development and design decisions. While such trade-offs may not affect certification under these Criteria, they will be considered during decision making regarding purchase and deployment of certified ETD. A detailed discussion of these economic and operational concerns are addressed in the Certification Plan.

Authority: Pub. L. 107-71, 115 Stat. 597 (3001).

Dated: July 15, 2002.
John W. Magaw,
Under Secretary of Transportation for Security.

[FR Doc. 02-18611 Filed 7-23-02; 8:45 am]

BILLING CODE 4910-62-P